INTERNATIONAL TRADE COMMISSION

[Investigation Nos. 701-TA-448 and 731-TA-1117 (Final)]

Certain Off-the-Road Tires From China

AGENCY: United States International Trade Commission.

ACTION: Revised schedule for the subject investigations.

DATES: Effective Date: April 3, 2008.

FOR FURTHER INFORMATION CONTACT: Elizabeth Haines (202-205-3200), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective February 20, 2008, the Commission established a schedule for the conduct of the final phase of the subject investigations (73 FR 11437, March 3, 2008). One party to these investigations has identified a substantial conflict with respect to its ability to participate in the hearing. Accordingly, at the request of that party and after consideration of the positions of the other parties to the investigations, the Commission is revising its schedule.

The Commission's new schedule for the investigations is as follows: requests to appear at the hearing must be filed with the Secretary to the Commission not later than June 27, 2008; the prehearing conference will be held at the U.S. International Trade Commission Building at 9:30 a.m. on July 3, 2008; the prehearing staff report will be placed in the nonpublic record on June 20, 2008; the deadline for filing prehearing briefs is June 27, 2008; the hearing will be held at the U.S. International Trade Commission Building at 9:30 a.m. on July 8, 2008; the deadline for filing posthearing briefs is July 15, 2008; the Commission will make its final release of information on August 5, 2008; and final party comments are due on August 7, 2008.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Dated: April 3, 2008.
Marilyn R. Abbott,
Secretary to the Commission.

[FR Doc. E8-7426 Filed 4-8-08; 8:45 am]

BILLING CODE 7020-02-P